DEPARTMENT OF HEALTH AND HUMAN SERVICES

Administration for Community Living

Request for Information: Family Caregiving Advisory Council

AGENCY: Administration for Community Living, HHS.

ACTION: Notice.

SUMMARY: The Administrator of the Administration for Community Living and the Advisory Council to Support Grandparents Raising Grandchildren seek information to be used in the development of the Initial Report, as required by the Supporting Grandparents Raising Grandchildren Act.

DATES: Comments on the request for information must be submitted by 11:59 p.m. (EST) December 9, 2019.

ADDRESSES: You may submit information here: https://acl.gov/form/sgrg-form.

SUPPLEMENTARY INFORMATION: The Administration for Community Living is requesting information to assist the Advisory Council to Support Grandparents Raising Grandchildren (the Advisory Council) in the development of an initial Report to Congress. Per the “Supporting Grandparents Raising Grandchildren Act,” the initial Report to Congress “shall include best practices, resources, and other useful information for grandparents and other older relatives raising children” including, if applicable, any information related to the needs of children who have been impacted by the opioid epidemic; an identification of any gaps in resources or information; as well as considerations of the needs of members of Native American tribes.

Please Note: This request is for information and planning purposes only and should not be construed as a solicitation or as an obligation on the part of the federal government or the Administration for Community Living (ACL). ACL does not intend to make any grant or contract awards based on responses to this invitation, or to otherwise pay for the preparation of any information submitted or for the government's use of such information.

ACL is not authorized to receive personally identifiable information through this public comment opportunity, beyond the contact information of the person submitting input. Please do not include any other personally identifiable information in your comment. For example, do not include the name, address, phone number or Social Security number of any individual you believe has experienced abuse, neglect or financial exploitation. We will immediately delete and not review any submission that includes personally identifiable information.

Through this Request for Information (RFI), ACL is seeking the following:

• Information, resources, programs and/or best practices you are aware of to help grandparents, other relatives, kinship caregivers and the children they care for:

○ Meet the mental/physical health, educational or nutritional needs of those for whom they provide care.

○ Address other pressing concerns such as legal assistance, financial support and affordable housing associated with this population of caregivers and care recipients.

○ Meet the needs of grandparents, older relatives, kinship caregivers and/or children impacted by the opioid epidemic or related concerns (e.g., fetal alcohol syndrome, chemical exposures, etc.).

○ Meet the needs of Native American tribes.

• Information, resources, programs and/or best practices to help grandparents, older relatives and kinship caregivers maintain their own physical and mental health, and emotional and financial wellbeing.

• Information on gaps and unmet needs that exist with respect to meeting the service and support needs of:

○ Grandparents raising and/or supporting grandchildren.

○ Other older relative or kinship caregivers.

○ Children (under the age of 18) in the care of a grandparent and/or older relative.

• Other recommendations to support grandparents, other relatives or kinship caregivers caring for children.

• Additional Federal legislative authority needed to better support and serve grandparents and older relatives raising children.

How the Information Will Be Used

ACL and the Advisory Council to Support Grandparents Raising Grandchildren are preparing and planning for the Council's future activities, including preparation of an initial Report to Congress as required by the Act. Through this RFI, ACL seeks to gather information from a broad range of public and private stakeholders and entities, Tribal organizations, and individuals and families impacted by the opioid crisis. The information gathered will be synthesized into a report to be submitted to the appropriate Congressional committees, state agencies responsible for carrying out family caregiver support programs; and the public in an online and accessible format.

Background

The “Supporting Grandparents Raising Grandchildren Act” (SGRG) became law in 2018. It establishes an Advisory Council to identify, promote, coordinate, and disseminate to the public information, resources, the best practices available to help grandparents and other older relatives meet the health, educational, nutritional, and other needs of the children in their care, maintain their own physical and mental health and emotional well-being. In doing so, the Council is to consider the needs of those affected by the opioid crisis and the needs of members of Native American tribes.

The Secretary has assigned responsibility for implementing the Advisory Council to the Administration for Community Living (ACL). ACL has been at the forefront of efforts to support grandparents and other older relatives raising children better meet the health, educational, nutritional and other needs of the children in their care as well as for the maintenance of their own physical and emotional health, and to consider the needs of those affected by the opioid crisis and the needs of members of Native American tribes.

In addition to the Secretary, the Act provides for inclusion as Council members the Secretary of Education, the Administrator of the Administration for Community Living, the Director of the Centers for Disease Control and Prevention, the Assistant Secretary for Mental Health and Substance Use, the Assistant Secretary for the Administration for Children and Families, a grandparent raising a grandchild, an older relative caregiver of children, as appropriate, the head of other Federal departments, or agencies, identified by the Secretary of Health and Human Services as having responsibilities, or administering programs, relating to current issues affecting grandparents or other older relatives raising children.

The Advisory Council is a federal entity charged with identifying, promoting, coordinating, and disseminating to the public information, resources, and the best practices available to help grandparents and other older relatives meet the health, educational, nutritional, and other needs of the children in their care, maintain their own physical and mental health and emotional well-being, and consider the needs of those affected by the opioid crisis and the needs of members of Native American tribes.

How To Submit a Response to This RFI

Comments should be submitted here.

Submission Due Date

To be assured consideration, all responses to this RFI must be received by 5:00 p.m., EST on Friday, January 31, 2020.

For Further Information

If you have questions about this request, please email them to SGRG.Act@acl.hhs.gov. This is a resource mailbox established to receive public input for the Supporting Grandparents Raising Grandchildren Act, and should not be used to request information beyond the scope of this public input opportunity.

Dated: December 2, 2019.
Lance Robertson,
Administrator and Assistant Secretary for Aging.

[FR Doc. 2019-26437 Filed 12-6-19; 8:45 am]

BILLING CODE 4154-01-P